FEDERAL EMERGENCY MANAGEMENT AGENCY

Agency Information Collection Activities: Proposed Collection; Comment Request

ACTION: Notice and request for comments.

SUMMARY: The Federal Emergency Management Agency (FEMA), as part of its continuing effort to reduce paperwork and respondent burden, invites the general public and other Federal agencies to take this opportunity to comment on proposed continuing information collections. In accordance with the Paperwork Reduction Act of 1995 (44 U.S.C. 3506(c)(2)(A)), this notice seeks comments concerning FEMA's Debt Collection Financial Statement, which requests personal financial data from its individual debtors.

SUPPLEMENTARY INFORMATION: Under FEMA's debt collection regulations, 44 CFR 11.36(b), FEMA is required to maintain current credit data on FEMA's debtors including, the individual debtor's own financial statement, executed under penalty for false claim, concerning his/her assets and liabilities and his/her income and expenses. FEMA Form 22-13, Debt Collection Financial Statement, collects such data directly from the individual debtor. FEMA uses this data to determine the debtor's ability to pay debts due FEMA and to locate the debtor's assets.

Collection of Information

Title: Debt Collection Financial Statement.

Type of Information Collection: Extension of a currently approved collection.

OMB Number: 3067-0122.

Form Numbers: FEMA Form 22-13, Debt Collection Financial Statement.

Abstract: FEMA may request a debtor to provide personal financial information on FEMA Form 22-13 concerning his or her current financial position. This information includes the debtor's home and employment addresses, name of spouse (if any), name and age of children (if any), amount and sources of the debtor's and spouse's (if any) salaries, stocks, bonds and other securities, real and personal property owned, bank accounts and names of creditors and amounts owed to these creditors.

With this information, FEMA can evaluate whether to allow a debtor to pay the FEMA debts under installment repayment agreements and, if so, under what terms and amounts. FEMA also uses this data to determine whether FEMA should suspend or terminate collection efforts or compromise the respondent's debts. This data is also used to locate the debtor's assets if the debts are to be judicially enforced.

Providing information on FEMA Form 22-13 is voluntary on the part of the debtor. However, if the debtor does not provide the information requested, FEMA may use more severe collection methods.

Affected Public: Individuals or Households.

Number of Respondents: 600.

Frequency of Responses: On Occasion.

Hours Per Response: 75.

Estimated Total Annual Burden Hours: 450 hours.

Estimated Cost: The cost to respondents is estimated to be $7,074. The cost to the Federal Government is estimated to be $7,128.

Comments

Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received within 60 days of the date of this notice.

ADDRESSES: Interest persons should submit written comments to Muriel B. Anderson, Chief, Records Management Branch, Program Services Division, Operations Support Directorate, Federal Emergency Management Agency, 500 C Street, SW., Room 316, Washington DC 20472.

FOR FURTHER INFORMATION CONTACT: Contact Robin D. Maresco, Accountant, FEMA Office of Financial Management, Financial Policy Division, Policy and Standards Branch, 500 C Street, SW, Washington, DC 20742, telephone number (202) 646-4287 for additional information. You may contact Ms. Anderson for copies of the proposed collection of information at telephone number (202) 646-2625 or facsimile number (202) 646-3347 or e:mail muriel.anderson@fema.gov.

Dated: May 1, 2001.
Reginald Trujillo,
Director, Program Services Division, Operations Support Directorate.

[FR Doc. 01-11361 Filed 5-4-01; 8:45 am]

BILLING CODE 6718-01-P